OFFICE OF PERSONNEL MANAGEMENT

5 CFR Part 531

RIN 3206-AL96

General Schedule Locality Pay Areas

AGENCY: U.S. Office of Personnel Management.

ACTION: Final rule.

SUMMARY: On behalf of the President's Pay Agent, the U.S. Office of Personnel Management is issuing final regulations on the locality pay program for General Schedule employees. Originally published on September 28, 2009, as an interim rule with a request for comments, the regulations moved the McGuire Air Force Base, NJ, and Fort Dix, NJ, Philadelphia locality pay area portions of the new Joint Base McGuire-Dix-Lakehurst, from the Philadelphia locality pay area to the New York locality pay area. We received no comments on the interim rule and adopt the final rule without change. We are also adding a corresponding note to the definition of the Philadelphia locality pay area to clarify that the Joint Base is not part of the Philadelphia locality pay area and changing titling of the Portland, OR, locality pay area to correspond to a change in the name of the Portland Metropolitan Statistical Area.

DATES: Effective on July 21, 2010.

Applicability Date: The regulations were applicable on the first day of the first pay period that began on or after September 28, 2009.

FOR FURTHER INFORMATION CONTACT: Allan Hearne, (202) 606-2838;

Fax: (202) 606-4264; e-mail: pay-performance-policy@opm.gov.

SUPPLEMENTARY INFORMATION: Section 5304 of title 5, United States Code, authorizes locality pay for General Schedule (GS) employees with duty stations in the United States and its territories and possessions.

Section 5304(f) of title 5, United States Code, authorizes the President's Pay Agent (the Secretary of Labor, the Director of the Office of Management and Budget, and the Director of the Office of Personnel Management) to determine locality pay areas. Most locality pay areas follow county lines under the methods recommended by the Federal Salary Council (Council) and adopted by the President's Pay Agent. However, exceptions are made for Federal facilities that cross county borders under criteria recommended by the Council and approved by the Pay Agent.

As part of the base realignment and closure process, the Department of Defense established Joint Base McGuire-Dix-Lakehurst effective October 1, 2009. McGuire Air Force Base and Fort Dix, in Burlington County, New Jersey, were in the Philadelphia locality pay area while Lakehurst, in Ocean County, New Jersey, was in the New York locality pay area. The President's Pay Agent concluded that the Joint Base McGuire-Dix-Lakehurst met the Council's existing criteria to be included in the New York locality pay area. Accordingly, on September 28, 2009, the Office of Personnel Management published an interim rule to move the Philadelphia locality pay area portions of the joint base from the Philadelphia locality pay area to the New York locality pay area. We received no comments on the interim rule and adopt it as final with a clarification that the Philadelphia locality pay area does not include Joint Base McGuire-Dix-Lakehurst.

On December 1, 2009, the Office of Management and Budget (OMB) published OMB Bulletin No. 10-02 making changes in metropolitan statistical areas (MSAs). One of these changes renamed the Portland-Vancouver-Beaverton, OR-WA MSA as the Portland-Vancouver-Hillsboro, OR-WA MSA; but this change did not alter the geographic definition of the MSA. Since we use MSAs as the core definition of locality pay areas, we are also renaming the Portland-Vancouver-Beaverton, OR-WA locality pay area as the Portland-Vancouver-Hillsboro, OR-WA locality pay area and updating the MSA name in the regulation to match the new OMB MSA name. There are no changes in the geographic definition of the locality pay area or in employee entitlements as a result of this name change.

E.O. 12866, Regulatory Review

The Office of Management and Budget has reviewed this rule in accordance with E.O. 12866.

Paperwork Reduction Act

This document does not contain proposed information collection requirements subject to the Paperwork Reduction Act of 1995, Public Law 104-13.

Regulatory Flexibility Act

I certify that these regulations will not have a significant economic impact on a substantial number of small entities because they will apply only to Federal agencies and employees.

List of Subjects in 5 CFR Part 531

Government employees, Law enforcement officers, Wages.

U.S. Office of Personnel Management.
John Berry,
Director.

Accordingly, OPM adopts as a final rule the interim rule published at 74 FR 49307 on September 28, 2009 with the following changes:

PART 531—PAY UNDER THE GENERAL SCHEDULE

1. The authority citation for part 531 continues to read as follows:

Authority: 5 U.S.C. 5115, 5307, and 5338; sec. 4 of Public Law 103-89, 107 Stat. 981; and E.O. 12748, 56 FR 4521, 3 CFR, 1991 Comp., p. 316; Subpart B also issued under 5 U.S.C. 5303(g), 5305, 5333, 5334(a) and (b), and 7701(b)(2); Subpart D also issued under 5 U.S.C. 5335 and 7701(b)(2); Subpart E also issued under 5 U.S.C. 5336; Subpart F also issued under 5 U.S.C. 5304 and 5305; E.O. 12883, 58 FR 63281, 3 CFR, 1993 Comp., p. 682; and E.O. 13106, 63 FR 68151, 3 CFR, 1998 Comp., p. 224.

Subpart F—Locality-Based Comparability Payments

2. In § 531.603, paragraphs (b)(20), (b)(21), and (b)(24) are revised to read as follows:

§ 531.603 Locality pay areas.

* * * * *

(b) * * *

(20) New York-Newark-Bridgeport, NY-NJ-CT-PA—consisting of the New York-Newark-Bridgeport, NY-NJ-CT-PA CSA, plus Monroe County, PA, Warren County, NJ, and all of Joint Base McGuire-Dix-Lakehurst;

(21) Philadelphia-Camden-Vineland, PA-NJ-DE-MD—consisting of the Philadelphia-Camden-Vineland, PA-NJ-DE-MD CSA excluding Joint Base McGuire-Dix-Lakehurst, plus Kent County, DE, Atlantic County, NJ, and Cape May County, NJ;

* * * * *

(24) Portland-Vancouver-Hillsboro, OR-WA—consisting of the Portland-Vancouver-Hillsboro, OR-WA MSA, plus Marion County, OR, and Polk County, OR;

* * * * *

[FR Doc. 2010-14981 Filed 6-18-10; 8:45 am]

BILLING CODE 6325-39-P